DEPARTMENT OF TRANSPORTATION

National Highway Traffic Safety Administration

Reports, Forms, and Record Keeping Requirements; Agency Information Collection Activity Under OMB Review

AGENCY: National Highway Traffic Safety Administration (NHTSA), U.S. Department of Transportation (DOT).

ACTION: Notice.

SUMMARY: NHTSA has forwarded the information collection request described in this notice to the Office of Management and Budget (OMB) for approval of a new information collection. We published a Federal Register Notice with a 60-day public comment period on this information collection on April 29, 2015. We are required to publish this notice in the Federal Register by the Paperwork Reduction Act of 1995.

DATES: Comments must be submitted on or before October 1, 2015.

ADDRESSES: Send comments, within 30 days, to the Office of Information and Regulatory Affairs, Office of Management and Budget, 725 17th Street NW., Washington, DC 20503, Attention NHTSA Desk Officer.

FOR FURTHER INFORMATION CONTACT: Dr. James Higgins, 202-366-3976.

SUPPLEMENTARY INFORMATION:

Title: Survey of Law Enforcement Officers/Agencies: Attitudes Towards and Resources for Traffic Safety Enforcement.

Type of Request: New information collection requirement.

Background: Title 23, United States Code, Chapter 4, Section 402 gives the Secretary authorization to use funds appropriated to carry out this section to conduct research and development activities, including demonstration projects and the collection and analysis of highway and motor vehicle safety data and related information needed to carry out this section, with respect to all aspects of highway and traffic safety systems and conditions relating to—vehicle, highway, driver, passenger, motorcyclist, bicyclist, and pedestrian characteristics; accident causation and investigations; and human behavioral factors and their effect on highway and traffic safety. NHTSA further has the responsibility for promoting and implementing effective educational, engineering and enforcement programs with the goal of ending preventable tragedies and reducing economic costs associated with vehicle use and highway travel.

NHTSA was established to reduce the number of deaths, injuries, and economic losses resulting from motor vehicle crashes on the Nation's highways. As part of this statutory mandate, NHTSA is authorized to conduct research as a foundation for the development of motor vehicle standards and traffic safety programs.

NHTSA is interested in the attitudes of Law Enforcement Officers (LEOs) and the resources that Law Enforcement Agencies (LEAs) have for traffic safety enforcement. More specifically, NHTSA is interested in past and present LEO viewpoints, agency resources currently being employed, how resources are being utilized, and which additional resources can be implemented to make the enforcement of traffic safety more successful, efficient, and safe for both the Law Enforcement Community as well as the public.

NHTSA proposes to collect information from LEOs and LEAs responsible for traffic safety enforcement. Information will be collected through a separate survey voluntarily completed by line officers and supervisors, as well as structured phone interviews with LEA Chiefs or their designees. Agency administrative data will be gathered through authorized LEA personnel responsible for maintaining such information.

Due to economic challenges and resource constraints, a number of law enforcement agencies have merged traffic enforcement with other enforcement divisions in order to reduce costs. It is important to gain an understanding of how attitudes and resources have shifted in recent years in order to determine what NHTSA can do to enhance traffic safety.

This proposed study is the first step in NHTSA understanding the attitudes and challenges that LEOs and LEAs have with traffic safety enforcement. This study will collect critical information about current and past attitudes towards traffic safety enforcement, as well as determine the strengths and weaknesses associated with merging traffic enforcement with other enforcement divisions, and allow NHTSA to assess key variables that have implications for intervention and outreach activities. The agency will gain not only valuable information on the attitudes of Law Enforcement but will also gain valuable guidance in the logistics involved in recruiting and collecting data from agencies and officers as well as the quality of responses and data from the developed instruments for larger nationally representative future studies.

Proposed Data Acquisition Methodology

For the proposed study, we will recruit participant groups from 40 LEAs across the United States who voluntarily agree to participate in the study. The Survey of Law Enforcement Officers/Agencies: Attitudes Towards and Resources for Traffic Safety Enforcement will be conducted with an average sample of 30 law enforcement line officers, 2 law enforcement supervisors, and one command-level staff interview among 40 sampled law enforcement agencies. Approximately 1,200 completed web-based officer surveys and 80 completed web-based supervisor surveys. In addition, an agency head telephone interview will be conducted with a member of each agency's command-level staff for a total of 40 completed agency head interviews.

All web instruments will be reviewed for section 508 compliance using the rules specified in section 1194.22—`Web-based Intranet and internet information and applications'.

Estimated Burden Hours for Information Collection

Frequency: This collection will be conducted once.

Respondent Burden: The web survey for the line officers and supervisors will average approximately 15 minutes including introduction, consent, confidentiality, survey questions, and debriefing. The estimated completion time for each semi-structured interview is 30 minutes per agency head or designee. Individuals providing administrative data have an estimated completion time of 30-45 minutes. The total estimated annual burden if all solicited participants respond is approximately 370 hours. Participants will incur no costs and no record keeping burden from the information collection.

Public Comments Invited

You are asked to comment on any aspect of this information collection, including: (1) Whether the proposed collection of information is necessary for the USDOT's performance, including whether the information will have practical utility; (2) the data acquisition methods; (3) the accuracy of the USDOT's estimate of the burden of the proposed information collection; (4) the types of data being acquired; (5) ways to enhance the quality, usefulness, and clarity of the collected information; and (6) ways that the burden could be minimized without reducing the quality of the collected information.

The agency will summarize and/or include your comments in the request for OMB's clearance of this information collection.

Authority: 44 U.S.C. Section 3506(c)(2)(A).

Issued on: August 25, 2015.
Jeff Michael,
Associate Administrator, Research and Program Development.

[FR Doc. 2015-21603 Filed 8-31-15; 8:45 am]

BILLING CODE 4910-59-P